DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Cass Scenic Railroad

[Docket Number FRA-2003-15851]

The Cass Scenic Railroad (Cass) seeks a waiver of compliance from the Inspection and Maintenance Standards for Steam Locomotives, 49 CFR part 230, published November 17, 1999. As stated in section 230.3(c)(1) Petition Process, Petitions for Special Consideration were to have been filed by January 18, 2001. It was to have been accompanied by all relevant documentation for support, including a FRA Form No. 4 that was calculated in accordance with § 230.17 One thousand four hundred seventy-two service day inspection, and all records that demonstrate the number of days the locomotive has been in service.

Cass seeks this waiver for one locomotive, number (Western Maryland) 6, which had the flue tubes replaced in accordance with the requirements of 49 CFR 230.17 and was returned to service in October 1996. At that time, Cass was eligible to file a Petition for Special Consideration because their locomotive was placed into service after the September 25, 1995 cutoff date. However, Cass was not able to verify the FRA Form 4 and supporting calculations until September 18, 2001, thus missing the required January 18, 2001 filing date. The locomotive was removed from service having only used 930 service days and has remained out of service. Therefore, Cass seeks a waiver from the January 18, 2001 filing date for their Petition for Special Consideration.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2003-15851 ) and must be submitted to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street, SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on October 30, 2003.
Grady C. Cothen,
Deputy Associate Administrator for Safety Standards and Program Development.

[FR Doc. 03-27651 Filed 11-3-03; 8:45 am]

BILLING CODE 4910-06-P